DEPARTMENT OF COMMERCE

Census Bureau

Agency Information Collection Activities; Submission to the Office of Management and Budget (OMB) for Review and Approval; Comment Request; Spatial, Address, and Imagery Data Program

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Spatial, Address, and Imagery Data (SAID) Program, prior to the submission of the information collection request (ICR) to OMB for approval.

DATES: To ensure consideration, comments regarding this proposed information collection must be received on or before September 3, 2024.

ADDRESSES: Interested persons are invited to submit written comments by email to dcmd.pra@census.gov. Please reference Spatial, Address, and Imagery Data Program in the subject line of your comments. You may also submit comments, identified by Docket Number USBC-2024-0017, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael S. Snow, Program Manager, Decennial Census Management Division, by phone at 301-763-9912 or by email to dcmd.pra@census.gov.

SUPPLEMENTARY INFORMATION:

I. Abstract

The SAID Program is one of many voluntary geographic partnership programs that collects data to update the U.S. Census Bureau's geographic database, known as the Master Address File/Topologically Integrated Geographic Encoding and Referencing (MAF/TIGER) System. The Census Bureau uses the MAF/TIGER System to link statistical data from censuses and surveys to locations and areas, such as American Indian reservations, states, counties, incorporated places, and census tracts. To tabulate census and survey response data properly, the Census Bureau must have current and accurate addresses, street centerlines, and imagery.

The SAID Program provides the Census Bureau with a continuous method to obtain current, accurate, and complete addresses, street centerlines, and imagery data from tribal, state, and local governments as well as other federal agencies and authoritative data source organizations. The purpose of the SAID Program is to help maintain the Census Bureau's geographic framework for data collection, tabulation, and dissemination between decennial censuses and to support ongoing programs such as the American Community Survey and the Population Estimates Program. The SAID Program will continue to focus on acquiring addresses, street centerlines, and imagery in areas targeted with housing unit growth or change.

The Census Bureau is requesting clearance to continue the SAID Program. As the current OMB Control Number 0607-1008 clearance will expire in January 2025, the new clearance will allow the Census Bureau to continue data acquisition to support MAF/TIGER System updates, quality control, and change detection.

II. Method of Collection

The SAID Program participant universe is determined annually using several evaluation factors. These factors include address growth, address change, or address coverage needs where there is no online address, parcel, or GIS data, and imagery coverage needs. The Census Bureau will contact potential participants by telephone and email to request data, and supporting metadata, for addresses, street centerlines, and/or imagery that are no more than two years old. The Census Bureau will attempt to contact each potential participant three times before rescheduling them for another year.

The Census Bureau may request entire datasets or partial datasets that include only the changes since a previous submission. For participants that agree to provide their data, the Census Bureau will provide guidance for using a secure online data sharing portal. The portal guides participants through the process for securely uploading their data to the Census Bureau and provides the Census Bureau with submission tracking for records management. If a participant's data lacks metadata or if the metadata is insufficient, the Census Bureau will contact the participant to request the additional metadata information. The Census Bureau will only process the data with appropriate metadata.

The data collected in the SAID Program may be used to maintain the Census Bureau's geographic framework for data collection, tabulation, and dissemination to support ongoing programs such as the American Community Survey, population estimates programs, other current surveys, and the decennial census. The SAID Program follows the process below:

• The Census Bureau invites participants, including tribal, state, and local governments; federal agencies; and other authoritative data source organizations each fiscal year.

• Participants are asked to provide a current address list with latitude/longitude coordinates and attributes, street centerline, and/or imagery data, and the associated metadata, for their jurisdiction that is no more than two years old.

• Participants submit the requested data per Census Bureau procedures.

• The Census Bureau validates then updates the MAF/TIGER System with the address and street centerline data provided by participants and uses the imagery for quality control and change detection.

• The Census Bureau uses the updated addresses and street centerlines in the MAF/TIGER System to support Census Bureau data collection, processing, and tabulation.

The Census Bureau is adding a feedback component to its geographic partnership programs to allow for the solicitation of feedback to improve the administration of the respective program and potentially reduce the future burden. Participants may be asked to provide their feedback on materials, method(s) of data collection, manner of communications, and the usability of the program applications and tools.

III. Data

OMB Control Number: 0607-1008.

Form Number(s): None.

Type of Review: Regular submission, request for a revision of a currently approved collection.

Affected Public: Tribal, state, local governments, federal agencies and other authoritative data source organizations.

Estimated Number of Respondents:

• Census Bureau Contact with Respondents: 500.

• Census Bureau Acquisition of Respondent Geographic Data and Content Clarification: 250.

• Feedback: 25

Estimated Time per Response:

• Census Bureau Contact with Respondents: 1 hour.

• Census Bureau Acquisition of Respondent Geographic Data and Content Clarification: 1.5 hours.

• Feedback: 1 hour.

Estimated Total Annual Burden Hours: 900.

• Census Bureau Contact with Respondents: 500.

• Census Bureau Acquisition of Respondent Geographic Data and Content Clarification: 375.

• Feedback: 25.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 16, 141, and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Mary Lenaiyasa,
PRA Program Manager, Policy Coordination Office, U.S. Census Bureau.

[FR Doc. 2024-14528 Filed 7-1-24; 8:45 am]

BILLING CODE 3510-07-P